DEPARTMENT OF HOMELAND SECURITY

[Docket No. DHS-2013-0070]

National Infrastructure Advisory Council

AGENCY: National Protection and Programs Directorate, DHS.

ACTION: Committee Management; Notice of an Open Federal Advisory Committee Meeting.

SUMMARY: The National Infrastructure Advisory Council (NIAC) will meet Thursday, November 21, 2013, at the United States Patent and Trademark Office, 2800 South Randolph Street, Room 3C71, Arlington, VA 22206. The meeting will be open to the public.

DATES: The NIAC will meet Thursday, November 21, 2013, from 1:30 p.m. to 4:30 p.m. The meeting may close early if the committee has completed its business. For additional information, please consult the NIAC Web site, www.dhs.gov/NIAC, or contact the NIAC Secretariat by phone at (703) 235-2888 or by email at NIAC@hq.dhs.gov.

ADDRESSES: United States Patent and Trademark Office, 2800 South Randolph Street, Room 3C71, Arlington, VA 22206.

For information on facilities or services for individuals with disabilities or to request special assistance at the meeting, contact the person listed under FOR FURTHER INFORMATION CONTACT below as soon as possible.

To facilitate public participation, we are inviting public comment on the issues to be considered by the Council as listed in the “Summary” section below. Comments must be submitted in writing no later than 12:00 p.m. on November 18, 2013, and must be identified by “DHS-2013-0070” and may be submitted by any one of the following methods:

• Federal eRulemaking Portal: www.regulations.gov. Follow the instructions for submitting written comments.

• Email: NIAC@hq.dhs.gov. Include the docket number in the subject line of the message.

• Fax: (703)603-5098.

• Mail: Nancy Wong, National Protection and Programs Directorate, Department of Homeland Security, 245 Murray Lane SW., Mail Stop 0607, Arlington, VA 20598-0607.

Instructions: All written submissions received must include the words “Department of Homeland Security” and the docket number for this action. Written comments received will be posted without alteration at www.regulations.gov, including any personal information provided.

Docket: For access to the docket to read background documents or comments received by the NIAC, go to www.regulations.gov.

Members of the public will have an opportunity to provide oral comments after the presentation of the report from the Regional Resilience Working Group, and after the report of the Executive Order (EO) 13636 and Presidential Policy Directive (PPD) 21 Implementation (EO-PPD) Working Group. We request that comments be limited to the issues listed in the meeting agenda and previous NIAC studies. All previous NIAC studies can be located at www.dhs.gov/NIAC. Public comments may be submitted in writing or presented in person for the Council to consider. Comments received by Nancy Wong after 12:00 p.m. on November 18, 2013, will still be accepted and reviewed by the members, but not necessarily by the time of the meeting. In-person presentations will be limited to three minutes per speaker, with no more than 15 minutes for all speakers after each presentation by each NIAC Working Group. Parties interested in making in-person comments should register on the Public Comment Registration list available at the meeting location no later than 15 minutes prior to the beginning of the meeting.

FOR FURTHER INFORMATION CONTACT: Nancy Wong, National Infrastructure Advisory Council Designated Federal Officer, Department of Homeland Security, telephone (703) 235-2888.

SUPPLEMENTARY INFORMATION: Notice of this meeting is given under the Federal Advisory Committee Act, 5 U.S.C. App. (Pub. L. 92-463). The NIAC shall provide the President through the Secretary of Homeland Security with advice on the security and resilience of the Nation's critical infrastructure sectors.

The NIAC will meet to discuss issues relevant to the critical infrastructure security and resilience as directed by the President. At this meeting, the committee will receive a presentation from the NIAC Regional Resilience Working Group documenting their final recommendations in their Regional Resilience Study, which includes the role and impact of critical infrastructure on regional resiliency, best regional practices and models, and the contribution of public private partnerships. The committee will also receive a presentation from the EO-PPD Working Group on a report consolidating the Working Group's recommendations related to the implementation of EO 13636 and PPD 21, which include information sharing, national planning and the cyber security framework. Both presentations will be posted no later than one week prior to the meeting on the Council's public Web page on www.dhs.gov/NIAC. The Council will review, and deliberate on the findings and recommendations of both Working Groups in this meeting. A Federal official will update the members on the progress of implementation of the committee's recommendations on Intelligence Information Sharing, a report the Council issued in 2012. Federal officials will also provide further clarification to the Council on the scope of the new Transportation Sector Resilience Working Group's study.

Meeting Agenda

I. Opening of Meeting

II. Roll Call of Members

III. Opening Remarks and Introductions

IV. Approval of Meeting Minutes

V. Update on Implementation of NIAC's Intelligence Information Sharing Report Recommendations

VI. Regional Resiliency Report Working Group Presentation

VII. Public Comment: Topics Limited to Regional Resilience Report

VIII. Regional Resiliency Report Discussion and Deliberation

IX. EO 13636 and PPD 21 Working Group Report Presentation

X. Public Comment: Topics Limited to EO 13636 and PPD 21 Implementation Report

XI. EO 13636 and PPD 21 Implementation Report Discussion and Deliberation

XII. Discussion and Status of Transportation Resiliency Study Working Group

XIII. Closing Remarks

Dated: October 23, 2013.
Nancy Wong,
Designated Federal Officer for the NIAC.

[FR Doc. 2013-26025 Filed 10-31-13; 8:45 am]

BILLING CODE 9110-09-P